DEPARTMENT OF TRANSPORTATION

Federal Aviation Administration

Proposed Advisory Circular (AC) 23-XX-28, Airframe Guide for Certification of Part 23 Airplanes

AGENCY: Federal Aviation Administration, DOT.

ACTION: Notice of availability of proposed Advisory Circular (AC) AC 23-XX-28 and request for comments.

SUMMARY: This notice announces the availability of and requests comments to proposed Advisory Circular (AC) 23-XX-28, Airframe Guide for Certification of Part 23 Airplanes. This AC provides information and guidance concerning an acceptable means, but not the only means, of complying with Title 14 of the Code of Federal Regulations (14 CFR) Part 23 Subpart C and portions of Subpart D. It consolidates the substance of existing Civil Aeronautics Administration (CAA) and Federal Aviation Administration (FAA) letters into a single reference. It also presents information from certain presently existing AC's that cover general topics and specific airworthiness standards.

DATES: Comments must be received on or before August 31, 2000.

ADDRESSES: Send a hard copy and, if possible, an electronic copy of all comments on the proposed AC to the Federal Aviation Administration, Attention: Pat Nininger (pat.nininger@faa.gov), Regulations and Policy Branch, ACE-111, Small Airplane Directorate, Federal Aviation Administration, 901 Locust, Room 301, Kansas City, Missouri 64106, telephone number (816) 329-4129, or facsimile (816) 329-4090.

FOR FURTHER INFORMATION CONTACT: Ken Payauys, Aerospace Engineer, Regulations and Policy Branch, ACE-111, Small Airplane Directorate, Federal Aviation Administration, 901 Locust, Room 301, Kansas City, Missouri 64106, telephone number (816) 329-4130.

SUPPLEMENTARY INFORMATION:

Comments Invited

Any person may obtain a copy of the proposed AC by contacting the person named above under ADDRESSES or the AC should be available within a few days on the internet at http://www.faa.gov/avr/air/airhome.htm. We invite interested persons to comment on the proposed AC by submitting comments to the address specified above. The FAA will consider all comments received on or before the closing date before issuing the AC. Comments may be examined at the Small Airplane Directorate, Federal Aviation Administration, 901 Locust, Room 301, Kansas City, Missouri 64106, between 7:30 a.m. and 4:00 p.m. weekdays, except Federal holidays.

Background

The AC format is current with the airworthiness standards that appear in Part 23 through Amendment 23-51, effective March 11, 1996. Information contained in the AC spans approximately 30 years of both FAA and CAA guidance. It includes some historical guidance that dates back to the Civil Air Regulations (CAR) 3 and the earlier CAR 04.

Issued in Kansas City, Missouri, on July 10, 2000.
Marvin Nuss,
Acting Manager Small Airplane Directorate, Aircraft Certification Service.

[FR Doc. 00-18581 Filed 7-21-00; 8:45 am]

BILLING CODE 4910-13-P